DEPARTMENT OF STATE

[Public Notice 8518]

Culturally Significant Objects Imported for Exhibition Determinations: “Renaissance to Goya: Prints and Drawings from Spain”

SUMMARY: Notice is hereby given of the following determinations: Pursuant to the authority vested in me by the Act of October 19, 1965 (79 Stat. 985; 22 U.S.C. 2459), Executive Order 12047 of March 27, 1978, the Foreign Affairs Reform and Restructuring Act of 1998 (112 Stat. 2681, et seq.; 22 U.S.C. 6501 note, et seq.), Delegation of Authority No. 234 of October 1, 1999, and Delegation of Authority No. 236-3 of August 28, 2000, I hereby determine that the objects to be included in the exhibition “Renaissance to Goya: Prints and Drawings from Spain,” imported from abroad for temporary exhibition within the United States, are of cultural significance. The objects are imported pursuant to a loan agreement with the foreign owner or custodian. I also determine that the exhibition or display of the exhibit objects at the New Mexico Museum of Art, from on or about December 14, 2013, until on or about March 9, 2014, and at possible additional exhibitions or venues yet to be determined, is in the national interest. I have ordered that Public Notice of these Determinations be published in the Federal Register.

FOR FURTHER INFORMATION CONTACT: For further information, including a list of the exhibit objects, contact Paul W. Manning, Attorney-Adviser, Office of the Legal Adviser, U.S. Department of State (telephone: 202-632-6469). The mailing address is U.S. Department of State, SA-5, L/PD, Fifth Floor (Suite 5H03), Washington, DC 20522-0505.

Dated: November 1, 2013.
Evan M. Ryan,
Assistant Secretary, Bureau of Educational and Cultural Affairs, Department of State.

[FR Doc. 2013-27136 Filed 11-12-13; 8:45 am]

BILLING CODE 4710-05-P